DEPARTMENT OF TRANSPORTATION

Federal Transit Administration

Federal Transit Administration National ITS Architecture Policy on Transit Projects; Delay of Effective Date

AGENCY: Federal Transit Administration (FTA), DOT.

ACTION: Notice; delay of effective date.

SUMMARY: This action temporarily delays for 60 days the effective date of the policy titled, “Federal Transit Administration National ITS Architecture Policy on Transit Projects,” published in the Federal Register on January 8, 2001, at 66 FR 1455, in conjunction with the Federal Highway Administration's (FHWA) final rule titled, “Intelligent Transportation System Architecture and Standards,” also published on January 8, 2001, at 66 FR 1446. The FTA policy concerns conformance with the National ITS Architecture and Standards. The policy encourages the effective deployment of ITS projects and coordination of local ITS strategies and projects to help meet the national and local goals for mobility, accessibility, safety, security, economic growth and trade, and the environment.

FHWA is delaying the effective date of its rule in accordance with the memorandum of January 20, 2001, from the Assistant to the President and Chief of Staff, titled “Regulatory Review Plan,” published in the Federal Register on January 24, 2001. To avoid any inconsistency or confusion, FTA is choosing to delay the effective date of its policy by creating a new effective date that is the same as for the FHWA rule. This 60-day delay will allow FTA to further review, consider and coordinate the policy with FHWA.

EFFECTIVE DATE: The effective date of the policy published at 66 FR 1455, January 8, 2001, is delayed until April 8, 2001.

FOR FURTHER INFORMATION CONTACT: For technical issues, Brian Cronin, Advanced Public Transportation Systems Division, (202) 366-8841. For legal issues, Richard Wong, Office of Chief Counsel, (202) 266-1936.

SUPPLEMENTARY INFORMATION: The temporary 60-day delay in the effective date of the FTA policy is consistent with the effective date of the FHWA rule. In conjunction with FHWA's review of its rule, FTA will have the opportunity to further review, consider, and coordinate FTA's National ITS Architecture policy. We are making this change effective immediately because the original effective date of the FTA policy would have led to potential confusion given the delay in the effective date of the FHWA rule.

Issued On: February 2, 2001.
Hiram J. Walker,
Acting Deputy Administrator.

[FR Doc. 01-3264 Filed 2-5-01; 11:11 am]

BILLING CODE 4910-57-M